DEPARTMENT OF EDUCATION

[CFDA NO. 84.031H]

Office of Postsecondary Education; Strengthening Institutions (SIP), American Indian Tribally Controlled Colleges and Universities (TCCU), Alaska Native and Native Hawaiian-Serving Institutions (ANNH) and Hispanic Serving Institutions (HSI) Programs; Notice Inviting Applications for Designation as Eligible Institutions for Fiscal Year (FY) 2003

Purpose of Programs: Under the SIP, TCCU, and ANNH Programs authorized under Part A of Title III of the Higher Education Act of 1965, as amended (HEA), institutions of higher education are eligible to apply for grants if they meet specific statutory and regulatory eligibility requirements. Similarly, HSIs are eligible to apply for grants under the HSI Program, authorized under Title V of the HEA, if they meet specific statutory and regulatory requirements. In addition, an institution that is designated as an eligible institution under those programs may also receive a waiver of certain non-Federal share requirements under the Federal Supplemental Educational Opportunity Grant (FSEOG), the Federal Work Study (FWS), the Student Support Services (SSS) and the Undergraduate International Studies and Foreign Language (UISFL) Programs. The FSEOG, FWS and SSS Programs are authorized under Title IV of the HEA; the UISFL Program is authorized under Title VI of the HEA.

Qualified institutions may receive these waivers even if they are not recipients of grant funds under the Title III Part A or Title V Programs.

Special Note: To become eligible, your institution must satisfy a criterion related to needy student enrollment and one related to Educational and General (E&G) expenditures for a particular base year. Because we changed the collection processes for determining the thresholds for these criteria, we do not have base year data beyond 1999-2000. In order to award FY 2003 grants in a timely manner, we will use threshold data from base year 1999-2000 rather than a later base year. In completing your eligibility application, therefore, you are to use data from the base year 1999-2000.

Eligible Applicants: To qualify as an eligible institution under the Title III Part A or Title V Programs, an accredited institution must, among other requirements, have a high enrollment of needy students, and its E&G expenditures per full-time equivalent (FTE) undergraduate student must be low in comparison with the average E&G expenditures per FTE undergraduate student of institutions that offer similar instruction. The complete eligibility requirements for the HSI Program are found in 34 CFR 606.2-606.5. The complete eligibility requirements for the Title III Part A Programs are found in 34 CFR 607.2-607.5. The regulations may also be accessed by visiting the following Department of Education Web site: http://www.ed.gov/legislation/FedRegister/finrule/1999-4/121599a.html.

Enrollment of Needy Students: Under 34 CFR 606.3(a) and 607.3(a), an institution is considered to have a high enrollment of needy students if—(1) at least 50 percent of its degree students received financial assistance under one or more of the following programs: Federal Pell Grant, FSEOG, FWS, and Federal Perkins Loan Programs; or (2) the percentage of its undergraduate degree students who were enrolled on at least a half-time basis and received Federal Pell Grants exceeded the median percentage of undergraduate degree students who were enrolled on at least a half-time basis and received Federal Pell Grants at comparable institutions that offered similar instruction.

To qualify under this latter criterion, an institution's Federal Pell Grant percentage for base year 1999-2000 must be more than the median for its category of comparable institutions provided in the table in this notice.

Educational and Expenditures per Full-Time Equivalent Student: An institution should compare its 1999-2000 E&G expenditures per FTE student to the average E&G expenditure per FTE student for its category of comparable institutions contained in the table in this notice. If the institution's E&G expenditures for the 1999-2000 base year are less than the average for its category of comparable institutions, it meets this eligibility requirement.

An institution's E&G expenditures are the total amount it expended during the base year for instruction, research, public service, academic support, student services, institutional support, operation and maintenance, scholarships and fellowships, and mandatory transfers.

The following table identifies the relevant median Federal Pell Grant percentages and the relevant average E&G expenditures per FTE student for the base year, 1999-2000, for the four categories of comparable institutions:

Type of institution | Median Pell grant percentage | Average E&G per FTE
2-year Public Institutions | 18.9 | $8,348
2-year Non-Profit Private Institutions | 31.0 | 20,101
4-year Public Institutions | 23.5 | 19,516
4-year Non-Profit Private Institutions | 23.4 | 30,152

Waiver Information: Institutions of higher education that are unable to meet the needy student enrollment requirement or the E&G expenditure requirement may apply to the Secretary for waivers of these requirements, as described in 34 CFR 606.3(b), 606.4(c) and (d), 607.3(b) and 607.4(c) and (d). Institutions requesting a waiver of the needy student or the E&G expenditures requirement must include the detailed information as described in the instructions for completing the application.

The needy student requirement waiver authority, provided in 34 CFR 606.3(b)(2) and (3) and 607.3(b)(2) and (3), refers to “low-income” students and families. The regulations define “low- income” as an amount that does not exceed 150 percent of the amount equal to the poverty level in the 1999-2000 base year as established by the U.S. Bureau of the Census, 34 CFR 606.3(c) and 607.3(c).

For the purposes of this waiver provision, the following table provides the low-income levels for the various sizes of families:

1999 Annual Low-Income Levels
Size of family unit | Contiguous 48 States, the District of Columbia and Outlying | Alaska | Hawaii
1 | $12,360 | $15,480 | $14,235
2 | 16,590 | 20,760 | 19,095
3 | 20,820 | 26,040 | 23,955
4 | 25,050 | 31,320 | 28,815
5 | 29,280 | 36,600 | 33,675
6 | 33,510 | 41,880 | 38,535
7 | 37,740 | 47,160 | 43,395
8 | 41,970 | 52,440 | 48,255

For family units with more than eight members, add the following amount for each additional family member: $4,230 for the contiguous 48 states, the District of Columbia and outlying jurisdictions; $5,280 for Alaska; and $4,860 for Hawaii.

The figures shown as low-income levels represent amounts equal to 150 percent of the family income levels established by the U.S. Bureau of the Census for determining poverty status. The Census levels were published by the U.S. Department of Health and Human Services in the Federal Register on March 18, 1999 (64 FR 13428-13430).

In reference to the waiver option specified in 606.3(b)(4) and 607.3(b)(4) of the regulations, information about “metropolitan statistical areas” may be obtained by requesting the Metropolitan Statistical Areas, 1999, order number PB99-501538, from the National Technical Information Service, Document Sales, 5285 Port Royal Road, Springfield, Virginia 22161, telephone number 1-800-553-6847. There is a charge for this publication.

Applications Available: November 1, 2002.

Deadline for Transmittal of Eligibility Applications:January 31, 2003 for institutions that wish to apply for FY 2003 new grants under the Title III Part A or the Title V Programs; May 23, 2003 for institutions that wish to apply only for cost-sharing waivers under the FSEOG, FWS, SSS or UISFL Programs; January 31, 2003 for institutions that wish to apply for both a grant under the Title III Part A Programs or the Title V Program and a waiver of the cost sharing requirements under the FSEOG, FWS, SSS or UISFL Programs.

Electronic Submission of Applications: For FY 2003, we are again offering institutions the option of submitting their Designation of Eligibility application in hard copy or sending it electronically to our eligibility Web site at: http://webprod.cbmiweb.com/Title3and5/index.html.

To enter the Web site, you must use your institution's unique 8-digit identifier, i.e., your Office of Postsecondary Education Identification Number (OPE ID number). If you receive a hard copy of the eligibility application and instructions from us in the mail, look for the OPE ID number on the address label. Otherwise, your business office or student financial aid office should have the OPE ID number. If your business office or student financial aid office does not have that OPE ID number, contact a Department of Education staff member using the e-mail address located at the end of the web page or the contact persons' telephone numbers or e-mail addresses included in this notice.

You will find detailed instructions for completing the form electronically under the “eligibility 2003” link at either of the following Web sites: http://www.ed.gov/offices/OPE/HEP/idues/title3a.html or http://www.ed.gov/hsi.

We encourage applicants to complete their form electronically and to complete it as soon as possible. For institutions of higher education that are unable to meet the needy student enrollment requirement or the E&G expenditure requirement and wish to request a waiver of one or both of those requirements, you may complete your designation application form on-line, print the form, and attach your narrative waiver request(s) to the printed form and mail both to the address in the next paragraph.

Mail your Designation of Eligibility application request to: Ms. Darlene B. Collins, Team Leader, Institutional Development and Undergraduate Education Service, U.S. Department of Education, 1990 K Street, NW., Room 6032, Request for Eligibility Designation, Washington, DC 20202-8513.

Applicable Regulations: (a) The Education Department General Administrative Regulations in 34 CFR parts 74, 75, 77, 79, 82, 85, 86, 97, 98, and 99. (b) The regulations for the Title III Part A Programs in 34 CFR part 607, and for the Title V Program in 34 CFR part 606.

For Applications and Further Information Contact: Thomas M. Keyes, Margaret A. Wheeler or Ellen Sealey, Institutional Development and Undergraduate Education Service, U.S. Department of Education, 1990 K Street, Room 6049, Request for Eligibility Designation, Washington, DC 20202-8513. Mr. Keyes' telephone number is (202) 502-7577. Ms. Wheeler's telephone number is (202) 502-7583. Ms. Sealey's telephone number is (202) 502-7580. Mr. Keyes, Ms. Wheeler and Ms. Sealey may be reached via Internet: thomas.keyes@ed.gov, margaret.wheeler@ed.gov, ellen.sealey@ed.gov.

If you use a telecommunications device for the deaf (TDD), you may call the Federal Information Relay Service (FIRS) at 1-800-877-8339.

Individuals with disabilities may obtain this document in an alternative format (e.g., Braille, large print, audio tape, or computer diskette) on request to the contact persons listed under For Applications and Further Information Contact.

Individuals with disabilities may obtain a copy of the application package in an alternative format by contacting those persons. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF, you must have Adobe Acrobat Reader, which is available free at this site. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 1057-1059d, 1101-1103g.

Dated: October 28, 2002.
Sally L. Stroup,
Assistant Secretary, Office of Postsecondary Education.

[FR Doc. 02-27697 Filed 10-30-02; 8:45 am]

BILLING CODE 4000-01-P